DEPARTMENT OF HEALTH AND HUMAN SERVICES

Office of the Secretary

Findings of Research Misconduct

AGENCY: Office of the Secretary, HHS.

ACTION: Notice.

SUMMARY: Findings of research misconduct have been made on the part of Matthew Endo, former graduate student, Department of Chemistry, University of Illinois at Urbana-Champaign. The questioned research was supported by National Institute of General Medical Sciences (NIGMS), National Institutes of Health (NIH), grant R01 GM080436. The administrative actions, including three (3) years of supervision, which are implemented beginning on November 16, 2017, are detailed below.

FOR FURTHER INFORMATION CONTACT: Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Matthew Endo, University of Illinois at Urbana-Champaign: Based on the Respondent's admission, an assessment conducted by University of Illinois at Urbana-Champaign (UIUC), and analysis conducted by ORI in its oversight review, ORI found that Mr. Matthew Endo, a former graduate student, Department of Chemistry, UIUC, engaged in research misconduct in research supported by National Institute of General Medical Sciences (NIGMS), National Institutes of Health (NIH), grant R01 GM080436.

ORI found that Respondent engaged in research misconduct by intentionally, knowingly, or recklessly causing false data to be recorded, falsifying and/or fabricating data and related images by alteration and/or reuse and/or relabeling of experimental data, and reporting falsified and/or fabricated data in one (1) manuscript subsequently submitted for publication:

• “Amphotericin primarily kills human cells by binding and extracting cholesterol.” Submitted for publication to the Proceedings of the National Academy of Sciences [withdrawn prior to peer review] (hereafter referred to as “Manuscript 1”)

Specifically, ORI found that:

• In Manuscript 1, Respondent caused falsified and/or fabricated results to be recorded by knowingly requesting biological testing of a mixture of compounds that he falsely claimed to be a single compound

• In Manuscript 1, Respondent falsified and/or fabricated the results on page S26 of the Supporting Information by modifying the HPLC trace through peak erasure to make the preparation of C35deOAmB appear more pure than in the actual results of experimentation

• In Manuscript 1, Respondent falsified and/or fabricated the results of Surface Plasmon Resonance data on page S7 of the Supporting Information to make the error bars smaller than the actual results of experimentation

• In Manuscript 1, Respondent falsified and/or fabricated the results of a WST08 Cell Proliferation Assay on page S32 of the Supporting Information by falsely claiming to run the reaction in triplicate when it was only performed in duplicate

• In correspondence with his advisor, Respondent falsified and/or fabricated the results of the preparation of putative C2deoAmB where Respondent modified and relabeled a HPLC trace and relabeled an NMR spectrum to falsely claim characterization, purity, and identification of sample that was sent for biological assay

Mr. Endo entered into a Voluntary Settlement Agreement and voluntarily agreed for a period of three (3) years, beginning on November 16, 2017:

(1) To have his research supervised; Respondent agreed to ensure that prior to the submission of an application for PHS support for a research project on which Respondent's participation is proposed and prior to Respondent's participation in any capacity on PHS-supported research, the institution employing him must submit a plan for supervision of Respondent's duties to ORI for approval; the plan for supervision must be designed to ensure the scientific integrity of Respondent's research contribution; Respondent agreed that he will not participate in any PHS-supported research until a plan for supervision is submitted and approved by ORI;

(2) that any institution employing him must submit in conjunction with each application for PHS funds, or report, manuscript, or abstract involving PHS supported research in which Respondent is involved, a certification to ORI that the data provided by Respondent are based on actual experiments or are otherwise legitimately derived and that the data, procedures, and methodology are accurately reported in the application, report, manuscript, or abstract;

(3) if no supervisory plan is provided to ORI, to provide certification to ORI on annual basis that he has not engaged in, applied for, or had his name included on any application, proposal, or other request for PHS funds without prior notification to ORI; and

(4) to exclude himself voluntarily from serving in any advisory capacity to PHS including, but not limited to, service on any PHS advisory committee, board, and/or peer review committee, or as a consultant.

Kathryn M. Partin,
Director, Office of Research Integrity.

[FR Doc. 2017-26961 Filed 12-14-17; 8:45 am]

BILLING CODE 4150-31-P